DEPARTMENT OF STATE

[Public Notice:12430]

Renewal of Defense Trade Advisory Group Charter

AGENCY: Department of State.

ACTION: Notice.

SUMMARY: The Department of State announces the renewal of the Charter for the Defense Trade Advisory Group (DTAG) for another two years. The DTAG advises the Department on issues involving its regulation of defense trade to help ensure the foreign policy and national security of the United States continue to be protected and advanced while facilitating the legitimate defense requirements of U.S. friends and allies. It is the only Department of State advisory committee that addresses defense trade related topics. The DTAG will remain in existence for two years after the filing date of the Charter unless terminated sooner.

FOR FURTHER INFORMATION CONTACT: Paula Harrison, Designated Federal Officer, Defense Trade Advisory Group, Directorate of Defense Trade Controls, Department of State, Washington, DC 20520, telephone: (202) 663-3310.

Authority: The DTAG is authorized by 22 U.S.C. 2651a and 2656 and the Federal Advisory Committee Act, 5 U.S.C. 1001 et seq.

Paula C. Harrison,
Designated Federal Officer, Defense Trade Advisory Group, Department of State.

[FR Doc. 2024-13114 Filed 6-13-24; 8:45 am]

BILLING CODE 4710-25-P